DEPARTMENT OF TRANSPORTATION

Federal Aviation Administration

14 CFR Part 39

[Docket No. FAA-2007-27786; Directorate Identifier 2007-CE-031-AD; Amendment 39-15031; AD 2007-09-01]

RIN 2120-AA64

Airworthiness Directives; Cessna Aircraft Company Models 182H, 182J, 182K, 182L, 182M, 182N, 182P, 182Q, and 182R Airplanes

Correction

In rule document E7-7519 beginning on page 19790 in the issue of Friday, April 20, 2007, make the following correction:

§ 39.13 [Corrected]

On page 19792, in § 39.13(e), in the table, entry (1) is corrected to read as follows:

Actions | Compliance | Procedures
(1) Remove power to the ground power electrical cable by: (i) Disconnecting the electrical cable at the forward ground power relay and the starter relay, or (ii) Removing the electrical cable between the forward ground power relay and the starter relay. | Within 15 days after April 25, 2007 (the effective date of this AD) | Follow Air Plains Services Corporation Mandatory Service Bulletin APS-07-01-01, dated March 5, 2007.
* * * * * * *

[FR Doc. Z7-7519 Filed 4-27-07; 8:45 am]

BILLING CODE 1505-01-D

DEPARTMENT OF THE TREASURY

Departmental Offices; Debt Management Advisory Committee Meeting

Correction

In notice document 07-1826 beginning on page 18747 in the issue of Friday, April 13, 2007, make the following corrections:

1. On page 18747, in the first column, in the second paragraph, in the second line, “know” should read “known”.

2. On the same page, in the second column, in the second line from the bottom of the column, “Ramahnathan” should read “Ramanathan”.

[FR Doc. C7-1826 Filed 4-27-07; 8:45 am]

BILLING CODE 1505-01-D